FEDERAL COMMUNICATIONS COMMISSION

47 CFR Part 73

[DA 05-2215; MB Docket No. 05-246; RM-11263]

Radio Broadcasting Services; Meyersville and San Antonio, TX

AGENCY: Federal Communications Commission.

ACTION: Proposed rule.

SUMMARY: This document requests comments on a Petition for Rule Making filed by Charles Crawford requesting the allotment of Channel 261A at Meyersville, Texas, as that community's first local aural transmission service. To accommodate this allotment, Petitioner requests the reclassification of FM Station KCYY, Channel 262C, San Antonio, Texas, to specify operation on Channel 262C0 pursuant to the reclassification procedures adopted by the Commission. See 1998 Biennial Regulatory Review—Streamlining of Radio Technical Rules in Parts 73 and 74 of the Commission's Rules, 65 FR 79773 (December 20, 2000). In response to an Order to Show Cause why Station KCYY should not be downgraded from Channel 262C to 262C0, the licensee of FM Station KCYY stated that it would file an application meeting minimum Class C FM standards within the period required by our rules. Since such an application has not been filed, the Commission proposes to reclassify Station KCYY to Class C0. Channel 261A can be allotted with a site restriction 2.0 kilometers (1.2 miles) southwest of Meyersville, at reference coordinates 28-54-58 NL and 97-19-37 WL. To accommodate the proposed allotment, the Commission proposes the reclassification of FM Station KCYY to specify operation on Channel 262C0.

DATES: Comments must be filed on or before September 19, 2005, and reply comments on or before October 4, 2005. Any counterproposal filed in this proceeding need only protect FM Station KCYY, San Antonio, Texas, as a Class C0 allotment.

ADDRESSES: Federal Communications Commission, 445 Twelfth Street, SW., Washington, DC 20554. In addition to filing comments with the FCC, interested parties should serve the petitioner as follows: Charles Crawford, 4553 Bordeaux Avenue, Dallas, Texas 75205.

FOR FURTHER INFORMATION CONTACT: R. Barthen Gorman, Media Bureau, (202) 418-2180.

SUPPLEMENTARY INFORMATION: This is a synopsis of the Commission's Notice of Proposed Rule Making, MB Docket No. 05-246, adopted July 27, 2005, and released July 29, 2005. The complete text of this decision may also be purchased from the Commission's duplicating contractor, Best Copy and Printing, Inc., 445 12th Street, SW., Room CY-B402, Washington, DC 20054, telephone 1-800-378-3160 or www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas is amended by adding Meyersville, Channel 261A, by removing Channel 262C and by adding Channel 262C0 at San Antonio.

Federal Communications Commission.
John A. Karousos,
Assistant Chief, Audio Division, Media Bureau.

[FR Doc. 05-16071 Filed 8-16-05; 8:45 am]

BILLING CODE 6712-01-P